COMMISSION ON CIVIL RIGHTS

Sunshine Act Notice

AGENCY: United States Commission on Civil Rights.

ACTION: Notice of meeting.

DATE AND TIME: Friday, March 11, 2011; 9:30 a.m. EST.

PLACE: 624 Ninth Street, NW., Room 540, Washington, DC 20425.

Meeting Agenda

This meeting is open to the public.

Portions of This Meeting May Be Held in Closed Session

I. Approval of Agenda.

II. White House Nominees for Chair, Vice Chair and Staff Director.

III. Management and Operations:

• Staff Director's report.

IV. Program Planning: Update and discussion of projects.

• Consideration of new statutory report topic for FY 2011.

• Consideration of briefing/hearing topic(s) for FY 2011.

• Title IX—Sex Discrimination in Liberal Arts College Admissions.

• English Only in the Workplace Report.

• Healthcare Disparities Report.

V. State Advisory Committee Issues:

• Re-chartering the North Dakota SAC.

• Re-chartering the Montana SAC.

VI. Approval of Feb. 11, 2011 Meeting Minutes.

VII. Announcements.

VIII. Adjourn.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: March 1, 2011.
Kimberly Tolhurst,
Senior Attorney-Advisor.

[FR Doc. 2011-4919 Filed 3-1-11; 4:15 pm]

BILLING CODE 6335-01-P